NUCLEAR REGULATORY COMMISSION

[NRC-2008-0147]

License Renewal Interim Staff Guidance LR-ISG-2008-01: Staff Guidance Regarding the Station Blackout Rule (10 CFR 50.63) Associated With License Renewal Applications; Notice of Withdrawal

AGENCY: Nuclear Regulatory Commission (NRC).

ACTION: Notice of withdrawal.

SUMMARY: The NRC is withdrawing its proposed License Renewal Interim Staff Guidance (LR-ISG) LR-ISG-2008-01, “Staff Guidance Regarding the Station Blackout Rule (10 CFR 50.63) Associated with License Renewal Applications.” The NRC staff issued the proposed guidance to clarify the acceptance criteria for the scoping of systems, structures, and components in accordance with section 54.4(a)(3) of Title 10 of the Code of Federal Regulations (10 CFR 54.4(a)(3)). However, after evaluating comments received on the proposed guidance, the NRC staff has determined that the current acceptance criteria, as provided in section 2.5.2.1.1 of NUREG-1800, Revision 1, “Standard Review Plan for Review of License Renewal Applications for Nuclear Power Plants” (SRP-LR), are adequate for the NRC staff's review of license renewal applications. As such, the NRC staff is withdrawing the proposed LR-ISG-2008-01.

On March 12, 2008, the NRC requested public comments on the proposed LR-ISG in the Federal Register (73 FR 13258). The proposed LR-ISG and accompanying figures are available in the NRC's Agencywide Documents Access and Management System (ADAMS) under Accession Nos. ML080520619 and ML080520620, respectively.

The NRC staff drafted the proposed LR-ISG-2008-01 after finding that some license renewal applications did not include within the scope of license renewal all structures and components required by 10 CFR 54.4(a)(3) for demonstrating compliance with 10 CFR 50.63 (Station Blackout Rule). The proposed LR-ISG was intended to clarify the NRC staff's acceptance criteria in SRP-LR section 2.5.2.1.1, “Components Within the Scope of SBO (10 CFR 50.63).”

By letters dated May 9, 2008 (ML081400346), and May 12, 2008 (ML081350619), the NRC received comments on the proposed LR-ISG from the Strategic Teaming and Resource Sharing alliance and the Nuclear Energy Institute (NEI), respectively. On July 18, 2008, the NRC staff discussed these comments during a public meeting with NEI and industry representatives, as documented in “Summary of the License Renewal Meeting Held between the U.S. Nuclear Regulatory Commission Staff and the Nuclear Energy Institute,” dated October 3, 2008 (ML082480547). Overall, the comments indicated that the NRC staff's proposed guidance is too prescriptive and does not acknowledge the unique design aspects of each plant, as reflected in the plant's current licensing basis.

The NRC staff evaluated both the comments submitted in writing, and those provided during the July 18, 2008, meeting and subsequent public license renewal meetings, and determined that the proposed clarification in LR-ISG-2008-01 is unnecessary because the NRC staff's review of license renewal applications is based on the plant-specific current licensing bases, regulatory requirements, and offsite power design configurations. As such, the NRC staff will continue to review license renewal applications against the acceptance criteria in SRP-LR section 2.5.2.1.1 to ensure applicants include within the scope of license renewal the systems, structures, and components that perform functions to demonstrate compliance with the Station Blackout Rule, as required by 10 CFR 54.4(a)(3).

Therefore, by this action, the NRC is withdrawing LR-ISG-2008-01.

ADDRESSES: Documents created or received after November 1, 1999, are available electronically at the NRC's Public Electronic Reading Room on the Internet at http://www.nrc.gov/reading-rm/adams.html. From this site, the public can gain entry into ADAMS. If you do not have access to the Internet or if there are any problems in accessing the documents located in ADAMS, contact the NRC Public Document Room reference staff at 1-800-397-4209, 301-415-4737, or by e-mail at PDR.Resource@nrc.gov.

FOR FURTHER INFORMATION CONTACT: Mr. Matthew Homiack, Division of License Renewal, Office of Nuclear Reactor Regulation, U.S. Nuclear Regulatory Commission, Washington, DC 20555-0001; telephone 301-415-1683; or e-mail Matthew.Homiack@nrc.gov.

SUPPLEMENTARY INFORMATION: The NRC issues LR-ISGs to communicate insights and lessons learned, and to address emergent issues not addressed in certain license renewal guidance documents. The NRC staff and stakeholders can use approved LR-ISGs until their guidance is incorporated into a formal license renewal guidance document revision. The NRC posts its issued LR-ISGs on the NRC Public Web page at http://www.nrc.gov/reading-rm/doc-collections/isg.

Dated at Rockville, Maryland, this 7th day of July 2009.
For the Nuclear Regulatory Commission.
Brian E. Holian,
Director, Division of License Renewal, Office of Nuclear Reactor Regulation.

[FR Doc. E9-16486 Filed 7-10-09; 8:45 am]

BILLING CODE 7590-01-P